DEPARTMENT OF HEALTH AND HUMAN SERVICES

Meeting of the Presidential Advisory Council on HIV/AIDS

AGENCY: Department of Health and Human Services, Office of the Secretary, Office of Public Health and Science.

ACTION: Notice.

SUMMARY: As stipulated by the Federal Advisory Committee Act, the Department of Health and Human Services (DHHS) is hereby giving notice that the Presidential Advisory Council on HIV/AIDS (PACHA) will hold a meeting. This meeting is open to the public. A description of the Council's functions is included with this notice.

DATES: February 27, 2007, 8 a.m. to 5 p.m., and February 28, 2007, 8 a.m. to 4 p.m.

ADDRESSES: Hubert H. Humphrey Building, 200 Independence Ave., SW., Room 705A, Washington, DC 20201.

FOR FURTHER INFORMATION CONTACT: Dana Ceasar, Program Assistant, Presidential Advisory Council on HIV/AIDS, Department of Health and Human Services, Hubert H. Humphrey Building, 200 Independence Avenue, SW., Room 733E, Washington, DC 20201; (202) 690-2470 or visit the Council's Web site at http://www.pacha.gov.

SUPPLEMENTARY INFORMATION: PACHA was established by Executive Order 12963, dated June 14, 1995, as amended by Executive Order 13009, dated June 14, 1996. The Council was established to provide advice, information, and recommendations to the Secretary regarding programs and policies intended to (a) promote effective prevention of HIV disease, (b) advance research on HIV and AIDS, and (c) promote quality services to persons living with HIV disease and AIDS. PACHA was established to serve solely as an advisory body to the Secretary of Health and Human Services. The Council is composed of not more than 21 members. Council membership is determined by the Secretary from individuals who are considered authorities with particular expertise in, or knowledge of, matters concerning HIV/AIDS.

The agenda for this Council meeting includes the following topics: HIV/AIDS prevention, treatment and care issues, both domestically and internationally. Members of the public will have the opportunity to provide comments at the meeting. Public comment will be limited to three (3) minutes per speaker.

Public attendance is limited to space available and pre-registration is required for both attendance and public comment. Any individual who wishes to participate should register at http://www.pacha.gov. Individuals who plan to attend and need special assistance, such as sign language interpretation or other reasonable accommodations, should indicate in the comment section when registering.

Dated: January 16, 2007.
Anand K. Parekh,
Acting Executive Director, Presidential Advisory Council on HIV/AIDS.

[FR Doc. E7-1125 Filed 1-24-07; 8:45 am]

BILLING CODE 4150-43-P